DEPARTMENT OF THE TREASURY

Submission for OMB Review; Comment Request

December 8, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 13, 2006 to be assured of consideration.

Internal Revenue Service (IRS)

OMB Number: 1545-0143.

Type of Review: Extension.

Title: Heavy Highway Vehicle Use Tax Return.

Form: IRS form 2290/SP/FR.

Description: Form 2290 is used to compute and report the tax imposed by section 4481 on the highway use of certain motor vehicles. The information is used to determine whether the taxpayer has paid the correct amount of tax.

Respondents: Business or other for-profit.

Estimated Total Burden Hours: 22,521,400 hours.

OMB Number: 1545-1686.

Type of Review: Extension.

Title: REG-103736-00 (Final) Requirement to Maintain List of Investors in Potentially Abusive Tax Shelters.

Description: The regulations provide guidance on the requirement under section 6112 to maintain a list of investors in potentially abusive tax shelters.

Respondents: Business or other for-profit, Individual or households.

Estimated Total Burden Hours: 50,000 hours.

OMB Number: 1545-1799.

Type of Review: Extension.

Title: Notice 2002-69, Interest Rates and Appropriate Foreign Loss Payment Patterns for Determining the Qualified Insurance Income of Certain Controlled Corporations under Section 954(i).

Description: This notice provide guidance on how to determine the foreign loss payment patterns of a foreign insurance company owned by U.S. shareholder for purpose of determining the amount of investment income earned by the insurance company that is not treated as Subpart F income under section 954(i).

Respondents: Business or other for profit.

Estimated Total Burden Hours: 300 hours.

OMB Number: 1545-1819.

Type of Review: Extension.

Title: REG-116641-01 (Final) Information Reporting and Backup Withholding for Payment Card Transactions.

Description: The document contains final regulations relating to the information reporting requirements, information reporting penalties, and backup withholding requirements for payment card transactions. This document also contains final regulations relating to the IRS TIN Matching Program.

Respondents: Business or other for-profit.

Estimated Total Burden Hours: 11,750,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. E5-7341 Filed 12-13-05; 8:45 am]

BILLING CODE 4810-01-P